NUCLEAR REGULATORY COMMISSION

[Docket No. 030-07710-CO; License No. 50-14102-01, EA-03-126; ASLBP No. 04-827-02-CO]

Alaska Department of Transportation and Public Facilities; Establishment of Atomic Safety and Licensing Board

Pursuant to delegation by the Commission dated December 29, 1972, published in the Federal Register, 37 FR 28710 (1972), and the Commission's regulations, see 10 CFR 2.104, 2.300, 2.303, 2.309, 2.311, 2.318, and 2.321, notice is hereby given that an Atomic Safety and Licensing Board is being established to preside over the following proceeding:

State of Alaska Department of Transportation and Public Facilities (Confirmatory Order Modifying License Effective Immediately)

A Licensing Board is being established pursuant to a hearing opportunity notice issued in conjunction with a March 15, 2004 immediately affective NRC staff confirmatory order modifying the 10 CFR part 30 byproduct materials license of the State of Alaska Department of Transportation and Public Facilities (ADOT) authorizing the possession and use of certain license material in portable gauging devices (69 FR 13594 (Mar. 23, 2004)). In response to that notice a request for hearing dated April 9, 2004, has been filed by petitioners Robert F. Farmer and Alaska Forum for Environmental Responsibility challenging the confirmatory order, which requires ADOT to take certain actions to ensure its compliance with NRC employee protection regulations (10 CFR 30.7) and to ensure ADOT has established and will maintain a safety conscious work environment (see 61 FR 24336 (May 14, 1996)).

The Board is comprised of the following administrative judges:

Thomas S. Moore, Chair, Atomic Safety and Licensing Board Panel, U.S. Nuclear Regulatory Commission, Washington, DC 20555-0001.

Dr. Paul B. Abramson, Atomic Safety and Licensing Board Panel, U.S. Nuclear Regulatory Commission, Washington, DC 20555-0001.

G. Paul Bollwerk, III, Atomic Safety and Licensing Board Panel, U.S. Nuclear Regulatory Commission, Washington, DC 20555-0001.

All correspondence, documents, and other materials shall be filed with the administrative judges in accordance with 10 CFR 2.302.

Issued at Rockville, Maryland, this 27th day of April 2004.
G. Paul Bollwerk, III,
Chief Administrative Judge, Atomic Safety and Licensing Board Panel.

[FR Doc. E4-993 Filed 4-30-04; 8:45 am]

BILLING CODE 7590-01-P